FEDERAL RETIREMENT THRIFT INVESTMENT BOARD

Sunshine Act; Notice of Meeting

TIME AND DATE: 8:30 a.m. (Eastern Time) January 26, 2015.

PLACE: 10th Floor Board Meeting Room, 77 K Street NE., Washington, DC 20002.

STATUS: Parts will be open to the public and parts will be closed to the public.

MATTERS TO BE CONSIDERED:

Open to the Public

1. Approval of the Minutes of the December 15, 2014 Board Member Meeting

2. Leadership Development Program

3. Thrift Savings Plan Reports

a. Monthly Participant Activity Report

b. Quarterly Investment Policy Report

c. Legislative Report

d. Vendor Financials

e. Audit Status

f. Budget Review

4. Annual Expense Ratio Review

5. Project Prioritization Overview

6. Enterprise Risk Assessment

Closed to the Public

7. Litigation

CONTACT PERSON FOR MORE INFORMATION: Kimberly Weaver, Director, Office of External Affairs, (202) 942-1640.

DATE: January 15, 2015.
James Petrick,
General Counsel, Federal Retirement Thrift Investment Board.

[FR Doc. 2015-00921 Filed 1-15-15; 4:15 pm]

BILLING CODE 6760-01-P